NATIONAL SCIENCE FOUNDATION

Notice of Permit Applications Received Under the Antarctic Conservation Act of 1978 (Pub. L. 95-541)

AGENCY: National Science Foundation.

ACTION: Notice of Permit Applications Received under the Antarctic Conservation Act of 1978, Public Law 95-541.

SUMMARY: The National Science Foundation (NSF) is required to publish notice of permit applications received to conduct activities regulated under the Antarctic Conservation Act of 1978. NSF has published regulations under the Antarctic Conservation Act at Title 45 Part 670 of the Code of Federal Regulations. This is the required notice of permit applications received.

DATES: Interested parties are invited to submit written data, comments, or views with respect to this permit application by June 26, 2003. This application may be inspected by interested parties at the Permit Office, address below.

ADDRESSES: Comments should be addressed to Permit Office, Room 755, Office of Polar Programs; National Science Foundation, 4201 Wilson boulevard, Arlington, Virginia 22230.

FOR FURTHER INFORMATION CONTACT: Nadene G. Kennedy at the above address or (703) 292-7405.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas requiring special protection. The regulations establish such a permit system to designate Antarctic Specially Protected Areas.

The applications received are as follows:

1. Applicant—Permit Application No. 2004-002, Lawrence J. Conrad, 845 17th Street, Washougal, WA 98671.

Activity for Which Permit Is Requested

Enter Antarctic Specially Protected Areas. The applicant proposes to take photographs of named geographic features throughout the McMurdo Sound region. The photographs will illustrate a geographically arranged gazetteer or “field guide” to the features. The applicant proposes to enter the Barwick Valley, Victoria Land (ASPA #123) to fully document the Barwick Valley features which will benefit the scientific community in current and future work. Delineating data accompanying each photograph will include latitude, longitude, altitude, date, time, elevation, look direction, focal length and associated camera settings. The photographs and accompanying data will provide the potential for contemporary and future comparative studies of landscape change, thereby reducing need for access to the ASPA. The applicant proposes a single two day journey into the Barwick Valley and will fully comply with the designated management plan for the site.

In addition, the applicant proposes to enter Discovery Hut (ASPA #157), Cape Evans Historic Site (ASPA #154), and Hut and Associated Artifacts, Backdoor Bay, Cape Royds (ASPA #156) for the purpose of reproducing historic photos of the area for use in the described gazetteer.

Location

ASPA #123—Barwick Valley, Victoria Land

ASPA #154—Cape Evans Historic Site

ASPA #156—Hut and associated artifacts, Backdoor Bay, Cape Royds, Ross Island

ASPA #157—Discovery Hut, Hut Point, Ross Island

Dates

August 22, 2003 to February 15, 2004.

2. Applicant—Permit Application No. 2004-003, Mark Buckley, Multimedia Manager, Raytheon Polar Services Company, 7400 S. Tucson Way, Centennial, CO 80112.

Activity for Which Permit Is Requested

Enter Antarctic Specially Protected Areas. The applicant is a member of Raytheon Polar Services Company, which is the prime civilian contractor to the U.S. Antarctic Program (USAP), and is tasked by the National Science Foundation (NSF) with video production in Antarctica. During the past several years, unprecedented ice conditions had adverse impact on penguin colonies in the McMurdo Sound and Ross Sea region. With the recent calving of C-19 and the influence of B-15, it is expected that scientific interest and activities, as well as public interests will continue. Therefore the applicant proposes his staff of videographers be permitted to enter the Antarctic Specially Protected Areas of Beaufort Island (ASPA 105), New College Valley, Cape Bird (ASPA 116), Cape Royds, Ross Island (ASPA 121), and Cape Crozier, Ross Island (ASPA 124) for the purpose of taking “low impact” documentary film footage. The video team will accompany a similarly permitted researcher into the sites to film scientific research. Access to the sites will be dependant upon operational, scientific conditions, and availability of transportation.

Location

Beaufort Island (ASPA 105), New College Valley, Cape Bird (ASPA 116), Cape Royds, Ross Island (ASPA 121), and, Cape Crozier, Ross Island (ASPA 124).

Dates: October 1, 2003 to February 14, 2006.
Nadene G. Kennedy,
Permit Officer, Office of Polar Programs.

[FR Doc. 03-13173 Filed 5-23-03; 8:45 am]

BILLING CODE 7555-01-M